DEPARTMENT OF COMMERCE

National Oceanic and Atmospheric Administration

RIN 0648-XD541

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee on to consider actions affecting New England fisheries in the exclusive economic zone (EEZ). Recommendations from this group will be brought to the full Council for formal consideration and action, if appropriate.

DATES: This meeting will be held on Wednesday, October 29, 2014 at 9 a.m.

ADDRESSES: Meeting Address: The meeting will be held at the Courtyard by Marriott, 32 Exchange Terrace, Providence, RI 02903; telephone: (401) 272-1191; fax: (401) 272-1416.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Committee will review recommendations from the Scallop Plan Development Team for FY 2015 and FY 2016 (default) fishery specifications (Framework 26). The Committee will also provide input on other measures under consideration in Framework 26: (1) Measures to allow fishing in state waters after federal Northern Gulf of Maine (NGOM) TAC is reached; (2) measures to make turtle regulations consistent in the scallop fishery; (3) measures to modify the existing area closure accountability measures in place for Georges Bank and Southern New England/Mid-Atlantic yellowtail flounder, and develop new accountability measures for northern windowpane flounder; and (4) consider an inshore transit corridor for limited access scallop vessels to declare out of the fishery. Other business may be discussed if time permits.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 7, 2014.
Tracey L. Thompson,
Acting Deputy Director, Office of Sustainable Fisheries, National Marine Fisheries Service.

[FR Doc. 2014-24238 Filed 10-9-14; 8:45 am]

BILLING CODE 3510-22-P